DEPARTMENT OF AGRICULTURE

Notice of Request for Extension or Renewal of a Currently Approved Information Collection

AGENCY: Office of the Assistant Secretary for Civil Rights, USDA.

ACTION: Notice and request for comments.

SUMMARY: In accordance with the Paperwork Reduction Act of 1995, this notice announces the intention of the Office of the Assistant Secretary for Civil Rights (OASCR) to request a renewal of a currently approved information collection. OASCR will use the information collected to collect the race, ethnicity, and gender (REG) of all program applicants and participants by county and State.

DATES: Comments on this notice must be received by February 27, 2018 to be assured of consideration.

ADDRESSES: Office of the Assistant Secretary for Civil Rights/Office of Compliance, Policy, and Training invites interested persons to submit comments on this notice. Comments may be submitted by one of the following methods:

☐ Federal eRulemaking Portal: This website provides the ability to type short comments directly into the comment field on this web page or attach a file for lengthier comments. Go to http://www.regulations.gov. Follow the on-line instructions at that site for submitting comments.

☐ Mail, including CD-ROMs, etc.: Send to Docket Clerk, 1400 Independence Avenue SW, Washington, DC 20250-3700, Mailstop 9401.

☐ Hand- or courier-delivered submittals: Deliver to 1400 Independence Avenue SW, Washington, DC 20250-3700, Mailstop 9401.

Instructions: All items submitted by mail or electronic mail must include the Office of the Assistant Secretary for Civil Rights/Office of Compliance, Policy, and Training, Docket No. 0503-0022, Comments received in response to this docket will be made available for public inspection and posted without change, including any personal information, to http://www.regulations.gov.

Docket: For access to background documents or comments received, go to the Office of the Assistant Secretary for Civil Rights/Office of Compliance, Policy, and Training, Docket Room at 1400 Independence Avenue SW, Washington, DC 20250-3700, Mailstop 9401, between 8:00 a.m. and 4:30 p.m., Monday through Friday.

FOR FURTHER INFORMATION CONTACT: Contact Anna G. Stroman, Deputy Director, Office of Compliance, Policy, and Training, Office of the Assistant Secretary for Civil Rights, U.S. Department of Agriculture, 1400 Independence Avenue SW, Washington, DC 20250, (202) 205-5953 or Anna.Stroman@ascr.usda.gov.

SUPPLEMENTARY INFORMATION:

Title: 7 CFR part 15 subpart D—Data Collection Requirement.

OMB Number: OMB No. 0503-0022.

Expiration Date of Approval: January 31, 2018.

Type of Request: Extension or renewal of the USDA 7 CFR part 15 subpart D—Data Collection Requirement Form.

Abstract: Currently, Section 14006 of the 2008 Farm Bill requires the Secretary of Agriculture to annually compile for each county and State in the United States program application and participation rate data regarding socially disadvantaged farmers or ranchers for each program of USDA that serves agricultural producers or landowners. This requirement only applies to FSA, NRCS, RD, and RMA. These four agencies use the voluntary data collection form approved by OMB that is attached as a cover page to the application forms for programs that provide services to agriculture producers, farmers and ranchers. In addition, all remaining USDA agencies with conducted programs (Animal and Plant Health Inspection Service, and Foreign Agricultural Service) were required to develop a strategy for collecting voluntary REG data from individuals for their respective federally conducted programs by utilizing the same OMB approved form. Applicants and program participants of these programs and activities provide this data on a voluntary basis. These strategies will be reviewed and approved by OASCR, who will also provide oversight and monitoring of the collection of this data through its compliance activities.

If the REG data is not collected on applicants and participants in USDA federally conducted programs, USDA will not be able to collect and report demographic data on its applicants and program participants. In addition, USDA would not be able to determine if programs and services are reaching and meeting the needs of the public, beneficiaries, partners, and other stakeholders based on demographic data.

Failure to collect this information will also have a negative impact on USDA's outreach and compliance activities. This could result in an inability to equitably deliver programs and services to applicants and producers, and ultimately an inability to hold the agencies accountable.

Estimate of Burden: Public reporting burden for this collection of information is estimated to average one hour per response.

Respondents: Producers, applicants, and USDA customers.

Estimated Number of Respondents: 1,190.

Estimated Number of Responses per Respondent: 1.

Estimated Total Annual Burden on Respondents: 68 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Anna G. Stroman, Deputy Director, Office of Compliance, Policy, and Training, Office of the Assistant Secretary for Civil Rights. All comments received will be available for public inspection during regular business hours at the same address.

All responses to this notice will be summarized and included in the request for Office of Management and Budget approval. All comments will become a matter of public record.

Winona Lake Scott,
Acting Deputy Assistant Secretary for Civil Rights, Office of the Assistant Secretary for Civil Rights.

[FR Doc. 2017-27448 Filed 12-28-17; 8:45 am]

BILLING CODE P